DEPARTMENT OF AGRICULTURE

Commodity Credit Corporation

[Docket ID FSA-2024-0003]

Notice of Funds Availability; Organic Certification Cost Share Program (OCCSP)

AGENCY: Commodity Credit Corporation and Farm Service Agency, USDA.

ACTION: Notification of funding availability.

SUMMARY: The Farm Service Agency (FSA), on behalf of the Commodity Credit Corporation, is issuing this notice to announce the availability of cost share assistance through OCCSP for fiscal year (FY) 2024. FSA is giving the opportunity for State Agencies to apply for grant agreements to administrator the OCCSP program to establish agreements to provide cost share assistance to eligible producers and handlers and for producers and handlers to apply for OCCSP payment at FSA county office.

DATES: Applications for State Agency Agreements: FSA will accept applications from State Agencies to administer OCCSP for FY 2024 between the period of May 13, 2024, and October 31, 2024.

Producer and Handler Applications: FSA county offices will accept applications for OCCSP from producers and handlers for FY 2024 until October 31, 2024.

FOR FURTHER INFORMATION CONTACT: Chris Vazquez; telephone: (202) 923-1585; email: christopher.vazquez@usda.gov. Individuals who require alternative means for communication should contact the USDA Target Center at (202) 720-2600 (voice and text telephone (TTY)) or dial 711 for Telecommunications Relay service (both voice and text telephone users can initiate this call from any telephone).

SUPPLEMENTARY INFORMATION:

Background

OCCSP provides cost share assistance to producers and handlers of agricultural products for the costs of obtaining or maintaining organic certification under the National Organic Program (NOP).¹ The purpose of this NOFA is to announce the funding availability and application periods for FY 2024.

¹ USDA's Agricultural Marketing Service (AMS) administers the NOP, which was established under the Organic Foods Production Act of 1990 (7 U.S.C. 6501-6524). Information about organic standards, the certification process, and additional resources for organic producers is available at https://www.farmers.gov/your-business/organic. More information about OCCSP is available at https://www.fsa.usda.gov/programs-and-services/occsp/index.

OCCSP is funded through two authorizations: (1) National Organic Certification Cost Share Program (National OCCSP) funds, and (2) Agricultural Management Assistance (AMA) funds. Section 102 of the Further Continuing Appropriations and Other Extensions Act, 2024 (Pub. L. 118-22) amended the Farm Security and Rural Investment Act of 2002 (7 U.S.C. 6523(d)(1)(C)) to provide $8 million ² in National OCCSP funding for FY 2024. In addition, approximately $1.5 million in National OCCSP funding remains available from prior years. An additional $1 million ³ in AMA funding is authorized for each FY. (7 U.S.C. 1524).

² After sequestration of 5.7 percent, $7,544,000 in National OCCSP funding is available for FY 2024.

³ After sequestration of 5.7 percent, $943,000 in AMA funding is available for FY 2024.

On April 29, 2019, FSA published a notice in the Federal Register announcing general eligibility and administrative provisions for OCCSP for FY 2019 through 2023 (84 FR 17997-17999). For FY 2024, FSA will administer OCCSP according to the provisions that were applicable for FY 2019 through 2023, providing cost share assistance for 75 percent of an applicant's eligible expenses, up to $750 per scope, which is the maximum amount allowed by law.⁴ Cost share assistance is provided on a first come, first served basis, until all available funds are obligated.

⁴ On August 10, 2020, FSA announced in the Federal Register that the maximum amount of cost share for FY 2020 through 2023 would be 50 percent of an applicant's eligible expenses, up to $500 per scope, due to the limited amount of funding available and expected participation rates. (85 FR 48149-48150). For FY 2020 through 2022, FSA also provided cost share for eligible organic and transitional certification and education expenses through the Organic and Transitional Education and Certification Program (OTECP) in response to economic challenges due to the COVID-19 pandemic that made obtaining and renewing USDA organic certification financially challenging for many operations. On May 10, 2023, FSA announced that OCCSP funding was available for FY 2023 to increase the amount of cost share to 75 percent of eligible costs, up to $750 per scope. (See https://www.usda.gov/media/press-releases/2023/05/10/usda-announces-new-steps-enhance-organic-markets-and-support.)

As in previous years, FSA will accept applications through FSA county offices and also partner with participating State agencies to administer the program through grant agreements.

Application Period for State Agencies and How To Submit an Application

FSA will accept applications from State Agencies from May 13, 2024, through October 31. 2024. To administer OCCSP for FY 2024, State Agencies must submit an Application for Federal Assistance (Standard Form 424 and 424A) electronically via Grants.gov (https://www.grants.gov) and enter into a grant agreement with FSA. State Agencies will refer to the Fiscal Year 2024 Full Notice of Funding Opportunity Announcement on Grants.gov for additional application requirements. For information on how to use Grants.gov, please access https://www.grants.gov/applicants.

Application Period for Producers and Handlers and How To Submit an Application

Producers and handlers may submit applications for eligible costs incurred in FY 2024 (the period of October 1, 2023, through September 30, 2024) to their FSA county office until October 31, 2024. The FSA county office locator is available in the “Find Your Local Service Center” section on https://www.farmers.gov.

Participating State Agencies will establish their own application process and deadlines, as specified in their grant agreements, and producers and handlers must submit an application package according to the instructions provided by the State Agency. A list of participating State Agencies will be available at https://www.fsa.usda.gov/programs-and-services/occsp after their agreements with FSA are finalized.

Paperwork Reduction Act Requirements

There are no changes to the information collection request for OCCSP that has been approved by the Office of Management and Budget (OMB) under the Paperwork Reduction Act. The OMB control number for the approval is 0560-0289.

Environmental Review

The environmental impacts have been considered in a manner consistent with the provisions of the National Environmental Policy Act (NEPA, 42 U.S.C. 4321-4347), the regulations of the Council on Environmental Quality (40 CFR parts 1500-1508), and the FSA regulation for compliance with NEPA (7 CFR part 799). The purpose of OCCSP is to provide cost share assistance to producers and handlers of agricultural products in obtaining organic certification. This NOFA merely announces funding availability and program deadlines for the 2024 program year. FSA is not making substantive changes to OCCSP.

As such, the Categorical Exclusions found at 7 CFR part 799.31 apply, specifically 7 CFR 799.31(b)(6)(iii) (that is, financial assistance to supplement income). No Extraordinary Circumstances (7 CFR 799.33) exist. As such, FSA has determined that this NOFA does not constitute a major Federal action that would significantly affect the quality of the human environment, individually or cumulatively. Therefore, FSA will not prepare an environmental assessment or environmental impact statement for this administrative action and this NOFA serves as documentation of the programmatic environmental compliance decision.

Federal Assistance Programs

The title and number of the Federal assistance program, as found in the Assistance Listings, to which this document applies are 10.171, Organic Certification Cost Share Program (OCCSP).

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or the USDA TARGET Center at (202) 720-2600 (voice and text telephone (TTY)) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

Zach Ducheneaux,
Administrator, Farm Service Agency and Executive Vice President, Commodity Credit Corporation.

[FR Doc. 2024-10172 Filed 5-8-24; 8:45 am]

BILLING CODE 3410-E2-P